DEPARTMENT OF DEFENSE

Department of the Air Force

[Docket ID: USAF-2014-0015]

Proposed Collection; Comment Request

AGENCY: Department of the Air Force, DoD.

ACTION: Information collection notice.

SUMMARY: In compliance with the Paperwork Reduction Act of 1995, the Air Force Research Laboratory/Air Force Office of Scientific Research (AFRL/AFOSR) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 20, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Air Force Office of Scientific Research, ATTN: Raheem A. Lawal, AFOSR/RTA, 875 North Randolph Street, Suite 325, Room 3112, Arlington, VA 22203-1768, or call AFOSR/RTA, at 703-696-7313.

SUPPLEMENTARY INFORMATION:

Title; Associated Form; and OMB Number: Summer Faculty Fellowship Program (SFFP); OMB Control Number 0701-0155.

Needs and Uses: The information collection requirement is necessary to identify some of the nation's most talented scientific personnel for award of fellowships at Air Force research activities. Summer fellowships provide research opportunities for 8-14 weeks at an Air Force research site.

Affected Public: Individuals or Households.

Annual Burden Hours: 50.5 hours.

Number of Respondents: 202.

Responses per Respondent: 1.

Annual Responses: 202.

Average Burden per Response: 15 minutes.

Frequency: Annually.

Respondents are professors, associate professors, assistant professors, undergraduate and graduate students desiring to conduct stimulating research projects and activities at Air Force research sites. The online electronic application process provides information necessary for evaluation and selection of researchers.

Dated: June 11, 2018.
Shelly E. Finke,
Alternate OSD Federal Register Liaison Officer, Department of Defense.

[FR Doc. 2018-13072 Filed 6-18-18; 8:45 am]

BILLING CODE 5001-06-P